DEPARTMENT OF COMMERCE

International Trade Administration

[C-489-502]

Welded Carbon Steel Pipe and Tube From Turkey: Final Results of Expedited Sunset Review of Countervailing Duty Order

AGENCY: Import Administration, International Trade Administration, Department of Commerce.

SUMMARY: On July 1, 2011, the Department of Commerce (the Department) initiated a sunset review of the countervailing duty order (CVD) on welded carbon steel pipe and tube from Turkey pursuant to section 751(c) of the Tariff Act of 1930, as amended (the Act). The Department has conducted an expedited sunset review of this order pursuant to section 751(c)(3)(B) of the Act and 19 CFR 351.218(e)(1)(ii)(C)(2). As a result of this sunset review, the Department finds that revocation of the CVD order is likely to lead to continuation or recurrence of a countervailable subsidy at the levels indicated in the “Final Results of Review” section of this notice.

DATES: Effective Date: October 19, 2011.

FOR FURTHER INFORMATION CONTACT: Kristen Johnson, AD/CVD Operations, Office 3, Import Administration, International Trade Administration, U.S. Department of Commerce, 14th Street and Constitution Avenue, NW., Washington, DC 20230; telephone: (202) 482-4793.

SUPPLEMENTAL INFORMATION:

Background

The CVD order on welded carbon steel pipe and tube from Turkey was published in the Federal Register on March 7, 1986. See Countervailing Duty Order: Certain Welded Carbon Steel Pipe and Tube Products from Turkey, 51 FR 7984 (March 7, 1986). On July 1, 2011, the Department initiated the third sunset review of this CVD order pursuant to section 751(c) of the Act. See Initiation of Five-Year (“Sunset”) Review, 76 FR 38613 (July 1, 2011). The Department received a notice of intent to participate on behalf of the following domestic interested parties: Allied Tube and Conduit, TMK IPSCO Tubulars, Leavitt Tube Company, Northwest Pipe Company, Western Tube and Conduit, JMC Steel Group, and United States Steel Corporation (US Steel) (collectively, domestic interested parties) within the deadline specified in 19 CFR 351.218(d)(1)(i). The domestic interested parties claimed interested party status under section 771(9)(C) of the Act, as manufacturers, producers, or wholesalers in the United States of a domestic like product.

On July 5, 2011, we received a request from the Government of the Republic of Turkey (GOT) for an extension of time to file a substantive response to the notice of initiation. On July 12, 2011, we extended the deadline for the submission of substantive responses until August 10, 2011, for all interested parties to this review. On August 10, 2011, we received complete substantive responses from the domestic interested parties and the GOT. On August 17, 2011, we received rebuttal comments filed on behalf of US Steel.¹

¹ The Department granted a two-day extension for the filing of rebuttal briefs. See Memorandum to the File regarding Extension of Time (August 15, 2011).

The Department did not receive any substantive responses from Turkish producers or exporters of the merchandise covered by this order. Based on the fact that a government's response alone, normally, is not sufficient for a full sunset review in which the order was not done on an aggregate basis, we determined to conduct an expedited (120-day) sunset review of this order. See section 751(c)(3)(B) of the Act and 19 CFR 351.218(e)(1)(ii)(C)(2). This approach is consistent with Department's practice. See, e.g., Certain Pasta From Turkey: Final Results of Expedited Five-Year (“Sunset”) Review of the Countervailing Duty Order, 72 FR 5269 (February 5, 2007), and Certain Carbon Steel Products From Sweden: Final Results of Expedited Sunset Review of Countervailing Duty Order, 65 FR 18304 (April 7, 2000).

The Department did not conduct a hearing because a hearing was not requested.

Scope of the Order

The products covered by the order are certain welded carbon steel pipe and tube with an outside diameter of 0.375 inch or more, but not over 16 inches, of any wall thickness (pipe and tube) from Turkey. These products are currently provided for under the Harmonized Tariff Schedule of the United States (HTSUS) as item numbers 7306.30.10, 7306.30.50, and 7306.90.10. Although the HTSUS subheadings are provided for convenience and customs purposes, the written description of the merchandise is dispositive.

Analysis of Comments Received

All issues raised in this review are addressed in the Issues and Decision Memorandum (Decision Memorandum) from Christian Marsh, Deputy Assistant Secretary for Antidumping and Countervailing Duty Operations, to Ronald K. Lorentzen, Deputy Assistant Secretary for Import Administration, dated concurrently with this notice, which is hereby adopted by this notice. The issues discussed in the accompanying Decision Memorandum include the likelihood of continuation or recurrence of a countervailable subsidy if the order was revoked, the net countervailable subsidy likely to prevail, and the nature of the subsidy. Parties can find a complete discussion of all issues raised in this review and the corresponding recommendation in this public memorandum which is on file electronically via Import Administration's Antidumping and Countervailing Duty Centralized Electronic Services System (IA ACCESS). Access to IA ACCESS is available in the Central Records Unit room 7046 of the main Commerce building. In addition, a complete version of the Decision Memorandum can be accessed directly on the Web at http://ia.ita.doc.gov/frn. The electronic versions of the Decision Memorandum are identical in content.

Final Results of Review

As a result of this review, the Department determines that revocation of the CVD order would likely lead to continuation or recurrence of a countervailable subsidy at the rates listed below:

Producer/Exporter | Net countervailable subsidy rate (percent)
Bant Boru | 3.01
Borusan Group | 0.79
ERBOSAN | 3.01
Yucel Boru Group | 0.95
All Others | 3.01

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a sanctionable violation.

We are issuing and publishing the final results of this review in accordance with sections 751(c), 752, and 777(i) of the Act.

Dated: October 11, 2011.
Ronald K. Lorentzen,
Deputy Assistant Secretary for Import Administration.

[FR Doc. 2011-27080 Filed 10-18-11; 8:45 am]

BILLING CODE 3510-DS-P